OFFICE OF THE UNITED STATES TRADE REPRESENTATIVE

[Docket Number USTR-2022-0011]

Request for Comments and Notice of Public Hearing Concerning Russia's Implementation of Its WTO Commitments

AGENCY: Office of the United States Trade Representative.

ACTION: Request for comments and notice of public hearing.

SUMMARY: The interagency Trade Policy Staff Committee (TPSC) will seek public comment to assist the Office of the United States Trade Representative (USTR) in the preparation of its annual report to Congress on Russia's implementation of its obligations as a Member of the World Trade Organization (WTO). This notice includes the schedule for the submission of comments to the TPSC for the Russia Report and a virtual public hearing.

DATES:

September 21, 2022 (Wednesday) at 11:59 p.m. EDT: Deadline for submission of written comments for the 2022 Russia WTO implementation report and requests to testify.

October 4, 2022, (Tuesday) at 9:00 a.m. EDT: Virtual public hearing.

ADDRESSES: USTR strongly prefers electronic submissions made through the Federal eRulemaking Portal: http://www.regulations.gov. Follow the instructions for submitting comments in section III below. The docket number is USTR-2022-0011. For alternatives to online submissions, please contact Spencer Smith at Spencer.L.Smith2@ustr.eop.gov or (202) 395-2974 in advance of the relevant deadline.

FOR FURTHER INFORMATION CONTACT: For procedural questions concerning written comments, contact Spencer Smith Spencer Smith at Spencer.L.Smith2@ustr.eop.gov or (202) 395-2974. Direct all other questions to Betsy Hafner, Deputy Assistant U.S. Trade Representative for Russia and Eurasia at Elizabeth_Hafner@ustr.eop.gov or (202) 395-9124.

SUPPLEMENTARY INFORMATION:

I. Background

Russia became a Member of the WTO on August 22, 2012, and on December 21, 2012, following the termination of the application of the Jackson-Vanik amendment to Russia and the extension of permanent normal trade relations to the products of Russia, the United States and Russia both filed letters with the WTO withdrawing their notices of non-application and consenting to have the WTO Agreement apply between them. In accordance with Section 201(a) of the Russia and Moldova Jackson-Vanik Repeal and Sergei Magnitsky Rule of Law Accountability Act of 2012 (Pub. L. 112-208), USTR is required to submit annually a report to Congress on the extent to which Russia is implementing the WTO Agreement, including the Agreement on the Application of Sanitary and Phytosanitary Measures and the Agreement on Trade Related Aspects of Intellectual Property Rights. The report also must assess Russia's progress on acceding to and implementing the Information Technology Agreement (ITA) and the Government Procurement Agreement (GPA). In addition, to the extent that USTR finds that Russia is not implementing fully any WTO agreement or is not making adequate progress in acceding to the ITA or the GPA, USTR must describe in the report the actions it plans to take to encourage Russia to improve its implementation and/or increase its accession efforts. In accordance with Section 201(a), and to assist it in preparing this year's report, the TPSC is hereby soliciting public comments.

The terms of Russia's accession to the WTO are contained in the Marrakesh Agreement Establishing the World Trade Organization and the Protocol on the Accession of the Russian Federation to the WTO (including its annexes) (Protocol). The Report of the Working Party on the Accession of the Russian Federation (Working Party Report) provides detail and context to the commitments listed in the Protocol. You can find the Protocol and Working Party Report on USTR's website at https://ustr.gov/node/5887 or on the WTO website at http://docsonline.wto.org (document symbols: WT/ACC/RUS/70, WT/MIN(11)/2, WT/MIN(11)/24, WT/L/839, WT/ACC/RUS/70/Add.1, WT/MIN(11)/2/Add.1, WT/ACC/RUS/70/Add.2, and WT/MIN(11)/2/Add.1.)

II. Public Participation

USTR invites public comments and/or oral testimony on Russia's implementation of its WTO commitments according to the schedule set out in the DATES section above. Written comments and/or oral testimony of interested persons should address Russia's implementation of the commitments made in connection with its accession to the WTO, including, but not limited to, commitments in the following areas:

a. Import regulation (e.g., tariffs, tariff-rate quotas, quotas, import licenses).

b. Export regulation.

c. Subsidies.

d. Standards and technical regulations.

e. Sanitary and phytosanitary measures.

f. Trade-related investment measures (including local content requirements).

g. Taxes and charges levied on imports and exports.

h. Other internal policies affecting trade.

i. Intellectual property rights (including intellectual property rights enforcement).

j. Services.

k. Government procurement.

l. Rule of law issues (e.g., transparency, judicial review, uniform administration of laws and regulations).

m. Other WTO commitments.

USTR requests small businesses (generally defined by the Small Business Administration as firms with fewer than 500 employees) or organizations representing small business members that submit comments to self-identify as such, so that we may be aware of issues of particular interest to small businesses.

The TPSC will convene a virtual public hearing via Zoom on Tuesday, October 4, 2022, beginning at 9:00 a.m. EDT. Persons wishing to observe the public hearing will find a link on USTR's web page for Russia on the day of the hearing at https://ustr.gov/countries-regions/europe-middle-east/russia-and-eurasia/russia.

Persons wishing to testify at the hearing must provide written notification of their intention to testify no later than September 21, 2022 at 11:59 p.m. EDT, as noted above in DATES section. Remarks at the hearing will be limited to no more than 5 minutes to allow for possible questions from the TPSC. Because the hearing will be public, testimony should not include any business confidential information (BCI). USTR will provide a link in advance of the virtual hearing to persons wishing to testify.

III. Requirements for Submissions

Persons submitting written comments must do so in English and must identify on the first page of the submission `Comments Regarding Russia's Implementation of its WTO Commitments.' The submission deadline is September 21, 2022 at 11:59 p.m. EDT. USTR strongly encourages commenters to make online submissions, using regulations.gov. To submit comments via regulations.gov, enter docket number USTR-2022-0011 on the home page and click `search.' The site will provide a search results page listing all documents associated with this docket. Find a reference to this notice and click on the link entitled `Comment.' For further information on using regulations.gov, please consult the resources provided on the website by clicking on `How to Use Regulations.gov' on the bottom of the home page.

Regulations.gov allows users to submit comments by filling in a `type comment' field, or by attaching a document using the `upload file' field. USTR prefers that you provide submissions in an attached document and, in such cases, that you write `see attached' in the `type comment' field, on the online submission form.

USTR prefers submissions in Microsoft Word (.doc) or Adobe Acrobat (.pdf). If you use an application other than those two, please indicate the name of the application in the 'type comment' field. At the beginning of the submission, include the following text: (1) 2022 Russia WTO Implementation Report; (2) your organization's name; and (3) whether the document is a comment or an answer to a TPSC question. Written comments should not exceed 30 single-spaced, standard letter-size pages in 12-point type, including attachments. Please do not attach separate cover letters to electronic submissions; rather, include any information that might appear in a cover letter in the comments themselves. Similarly, to the extent possible, please include any exhibits, annexes, or other attachments in the same file as the submission itself, not as separate files.

IV. Business Confidential Submissions

An interested party requesting that USTR treat information contained in a submission as BCI must certify that the information is business confidential. For any comments submitted electronically containing BCI, the file name of the business confidential version should begin with the characters `BCI.' You must clearly mark any page containing BCI with `BUSINESS CONFIDENTIAL' at the top of that page. Filers of submissions containing BCI also must submit a public version of their comments that USTR will place in the docket for public inspection. The file name of the public version should begin with the character `P.' Follow the `BCI' and `P' with the name of the person or entity submitting the comments.

As noted, USTR strongly urges that you file submissions through Regulations.gov. You must make any alternative arrangements with Spencer Smith at Spencer.L.Smith2@ustr.eop.gov or (202) 395-2974 in advance of the deadline.

USTR will post comments in the docket for public inspection, except properly designated BCI. You can view comments at Regulations.gov by entering docket number USTR-2022-0011 in the search field on the home page. General information concerning USTR is available at https://www.ustr.gov.

William Shpiece,
Chair of the Trade Policy Staff Committee, Office of the United States Trade Representative.

[FR Doc. 2022-18253 Filed 8-23-22; 8:45 am]

BILLING CODE 3290-F2-P